DEPARTMENT OF STATE

[Public Notice: 7704]

60-Day Notice of Proposed Information Collection: DS-71, Affidavit of Identifying Witness, 1405-0088

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Affidavit of Identifying Witness.

• OMB Control Number: 1405-0088.

• Type of Request: Revision of a Currently Approved Collection.

• Originating Office: Bureau of Consular Affairs, CA/PPT/PMO/PC.

• Form Number: DS-71.

• Respondents: Individuals who are verifying identity of a passport applicant.

• Estimated Number of Respondents: 44,000 per year.

• Estimated Number of Responses: 44,000 per year.

• Average Hours Per Response: 5 min.

• Total Estimated Burden: 3667 hours.

• Frequency: On Occasion.

• Obligation to Respond: Required to Obtain a Benefit.

DATES: The Department will accept comments from the public up to 60 days from December 2, 2011.

ADDRESSES: You may submit comments by any of the following methods:

• Email: PPTFormsOfficer@state.gov.

• Mail (paper, disk, or CD-ROM submissions): Passport Forms Management Officer, U.S. Department of State, Office of Program Management and Operational Support, 2100 Pennsylvania Avenue NW., Room 3031, Washington, DC 20037.

You must include the DS form number (if applicable), information collection title, and OMB control number in any correspondence.

FOR FURTHER INFORMATION CONTACT: Direct requests for additional information regarding the collection listed in this notice, including requests for copies of the proposed information collection and supporting documents, to Passport Forms Management and Officer, U.S. Department of State, Office of Program Management and Operational Support, 2100 Pennsylvania Avenue NW., Room 3031, Washington, DC 20037, who may be reached on (202) 663-2457 or at PPTFormsOfficer@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Affidavit of Identifying Witness is submitted in conjunction with an application for a U.S. passport. It is used by Passport Services to collect information for the purpose of establishing the identity of the applicant. This application is completed by the identifying witness when the applicant is unable to establish his or her identity to the satisfaction of a person authorized to accept passport applications.

Methodology

The Affidavit of Identifying Witness is submitted in conjunction with an application for a U.S. passport. Due to legislative mandates Form DS-0071 is only available at acceptance facilities and passport agencies. This form must be completed and signed in the presence of an authorized Passport Agent, Acceptance Agent, or Consular Officer.

Dated: November 15, 2011.
Barry J. Conway,
Acting Deputy Assistant Secretary for Passport Services, Bureau of Consular Affairs, Department of State.

[FR Doc. 2011-31065 Filed 12-1-11; 8:45 am]

BILLING CODE 4710-06-P